DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including the use of automated collection techniques or other forms of information technology.

Proposed Project: Enhanced Performance Measurement System for HRSA Health Professions Education and Training Program Grants: NEW

Following the 1998 reauthorization, HRSA's Health Professions Education and Training Programs have been using a reporting system known as the Comprehensive Performance Management System/Uniform Progress Report (CPMS/UPR) for preparation and submission of applications for continuation grants, and for reporting program outcomes under the Government Performance and Results Act of 1993 (GPRA).

Part I of the CPMS/UPR measures grantee progress toward meeting objectives, and is used for funding decisions. Part II collects information used by program officers to monitor program specific activities. Part III collects information on program results that can be aggregated across multiple programs, and is used for GPRA reporting and OMB initiated performance assessment activities.

The instrument previously approved for OMB for these purposes has been revised for clarity, and modified to better capture outcome information related to Health Professions Education and Training Programs that is increasingly required for evaluating Federal policy and program performance. Some elements have been added to improve measurement capability, while others have been streamlined to reduce burden. Additional validation rules are also being added to improve the quality of the data. Portions of the instrument have also been redesigned to improve reporting consistency among programs. The proposed system will be Web-based, and is planned to include a series of preprogrammed reports to increase access to, and analysis of, the data.

Estimates of annualized reporting burden are as follows:

Form | Number of respondents | Responses per respondent | Total responses | Hours per respondent | Total hour burden
Enhanced Performance Measurement System | 1,550 | 1 | 1,550 | 21.5 | 33,325

Send comments to Susan G. Queen, Ph.D., HRSA Reports Clearance Officer, Room 10-33, Parklawn Building, 5600 Fishers Lane, Rockville, MD 20857. Written comments should be received within 60 days of this notice.

Dated: May 15, 2006.
Tina Cheatham,
Director, Division of Policy Review and Coordination.

[FR Doc. E6-7667 Filed 5-18-06; 8:45 am]

BILLING CODE 4165-15-P